INTERNATIONAL TRADE COMMISSION

[Investigation Nos. 701-TA-528-529 and 731-TA-1264-1268 (Preliminary)]

Certain Uncoated Paper from Australia, Brazil, China, Indonesia, and Portugal

Determinations

On the basis of the record ¹ developed in the subject investigations, the United States International Trade Commission (“Commission”) determines, pursuant to sections 703(a) and 733(a) of the Tariff Act of 1930 (19 U.S.C. 1671b(a) and 1673b(a)) (“the Act”), that there is a reasonable indication that an industry in the United States is materially injured by reason of imports from Australia, Brazil, China, Indonesia, and Portugal of certain uncoated paper, provided for in subheadings 4802.56 and 4802.57 of the Harmonized Tariff Schedule of the United States, that are alleged to be sold in the United States at less than fair value (“LTFV”), and that are allegedly subsidized by the governments of China and Indonesia.

¹ The record is defined in sec. 207.2(f) of the Commission's Rules of Practice and Procedure (19 CFR 207.2(f)).

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (“Commerce”) of affirmative preliminary determinations in the investigations under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations, have the right to appear as parties in Commission antidumping and countervailing duty investigations. The Secretary will prepare a public service list containing the names and addresses of all persons, or their representatives, who are parties to the investigations.

Background

On January 21, 2015, a petition was filed with the Commission and Commerce by United Steel, Paper and Forestry, Rubber, Manufacturing, Energy, Allied Industrial and Service Workers International Union, Pittsburg, PA; Domtar Corporation, Ft. Mill, SC; Finch Paper LLC, Glen Falls, NY; P.H. Glatfelter Company, York, PA; and Packaging Corporation of America, Lake Forest, IL, alleging that an industry in the United States is materially injured or threatened with material injury by reason of LTFV and subsidized imports of certain uncoated paper from China and Indonesia and LTFV imports of certain uncoated paper from Australia, Brazil, and Portugal. Accordingly, effective January 21, 2015, the Commission instituted countervailing duty investigation Nos. 701-TA-528-529 and antidumping duty investigation Nos. 731-TA-1264-1268 (Preliminary).

Notice of the institution of the Commission's investigations and of a public conference to be held in connection therewith was given by posting copies of the notice in the Office of the Secretary, U.S. International Trade Commission, Washington, DC, and by publishing the notice in the Federal Register of January 27, 2015 (80 FR 4311). The conference was held in Washington, DC, on February 11, 2015, and all persons who requested the opportunity were permitted to appear in person or by counsel.

The Commission transmitted its determinations in these investigations to the Secretary of Commerce on March 11, 2015. The views of the Commission are contained in USITC Publication 4522 (March 2015), entitled Certain Uncoated Paper from Australia, Brazil, China, Indonesia, and Portugal (Investigation Nos. 701-TA-528-529 and 731-TA-1264-1268 (Preliminary).

By order of the Commission.
Issued: March 12, 2015.
Lisa R. Barton,
Secretary to the Commission.

[FR Doc. 2015-06043 Filed 3-16-15; 8:45 am]

BILLING CODE 7020-02-P